DEPARTMENT OF THE INTERIOR

National Park Service

[NPS-WASO-NRNHL-DTS#-36802; PPWOCRADI0, PCU00RP14.R50000]

National Register of Historic Places; Notification of Pending Nominations and Related Actions

AGENCY: National Park Service, Interior.

ACTION: Notice.

SUMMARY: The National Park Service is soliciting electronic comments on the significance of properties nominated before October 28, 2023, for listing or related actions in the National Register of Historic Places.

DATES: Comments should be submitted electronically by December 7, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 28, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

INDIANA

Dubois County

Zoar Public School, Zoar Methodist Church, Zoar Cemetery (Indiana's Public Common and High Schools MPS), 8818 West Old State Road 64 and Zoar Church Road, Zoar, MP100009589

Marion County

North Pennsylvania Street Historic District (Historic Residential Suburbs in the United States, 1830-1960 MPS), Roughly bound by Westfield Boulevard on the north, the east side of New Jersey Street on the east, 46th Street on the south, and the west side of Pennsylvania Street on the west, Indianapolis, MP100009591

Ohio County

Speakman-Miller-Kittle Farm, 10405 Old State Road 56, Rising Sun, SG100009592

Rush County

Dr. Jefferson and Eliza Arnold Helm House, Address Restricted, Rushville, SG100009593

Vanderburgh County

Baptisttown Historic District, Roughly each side of Evans A venue and the east side of Linwood A venue between Walnut and Lincoln, each side of Lincoln Avenue between Motion and Garvin, the west side of Garvin Street and each side of Elliott Street between Mulberry and Chandler, and ea, Evansville, SG100009594

MISSISSIPPI

Marshall County

Newsom—Adams Family Farm House, 461 Adam Springs Road, Waterford, SG100009585

NEW YORK

Monroe County

Third Ward Historic District (Boundary Increase), Roughly bounded by Adams and Peach Sts., I-490, and both sides of Troup and Fitzhugh Sts., Rochester, BC100009601

Steuben County

Village of Hammondsport Historic District, Bauder Ave, Church St., Curtiss Ave, Davis Ave, Grape St., Lake St., Liberty St., Main St., Mechanic St., Myrtle Ave, Orchard St., Pulteney St., Shethar St., Thorpe St., Vine St., Water St., Wheeler Ave, William St., Hammondsport, SG100009603

OHIO

Portage County

Mantua Center District (Boundary Increase), 4103-3991 State Route 82, 11670-11755 Mantua Center Road, 11653-11677 Diagonal Road, 11701-11715 School Lan, Mantua Center, BC100009586

TEXAS

Brazos County

Bryan Federal Building and Post Office, 216 W. 26th Street, Bryan, SG100009605

WYOMING

Fremont County

St. Andrew s Episcopal Church, 90 East Forbes Street, Atlantic City, SG100009595

Laramie County

Capitol North Historic District (Boundary Increase), Roughly bounded by E. 29th, and E. 25th St., Warren and Pioneer Aves., Cheyenne, BC100009596

Park County

American Legion Hall, 324 East 1st Street, Powell, SG100009598

Sage Creek Community Club, 5677 Greybull Highway, Cody, SG100009599

Additional documentation has been received for the following resource(s):

INDIANA

Franklin County

Whitewater Canal Historic District (Additional Documentation), From Laurel Feeder Dam to Brookville, Metamora, AD73000272

NEW YORK

Columbia County

Sweet-Herman Homestead (Additional Documentation), 582-614 Center Hill Rd., Copake, AD100007955

Monroe County

Third Ward Historic District, Roughly bounded by Adams and Peach Sts., I-490, and both sides of Troup and Fitzhugh Sts., Rochester, AD74001262

Ulster County

Balsam Lake Mountain Fire Observation Station (Additional Documentation), (Fire Observation Stations of New York State Forest Preserve MPS), Balsam Lake Mountain, Hardenburgh, AD01001038

OHIO

Portage County

Mantua Center District (Additional Documentation), Roughly bounded by OH 82 and Mantua Center Rd., Mantua Center, AD74001607

OKLAHOMA

Tulsa County

Church Studio, The, 304 S. Trenton Ave., Tulsa, AD100001595

WYOMING

Laramie County

Capitol North Historic District (Additional Documentation), Roughly bounded by E. 29th, and E. 25th St., Warren and Pioneer Aves., Cheyenne, AD80004048

Authority: Section 60.13 of 36 CFR part 60.

Sherry A. Frear,
Chief, National Register of Historic Places/National Historic Landmarks Program.

[FR Doc. 2023-25827 Filed 11-21-23; 8:45 am]

BILLING CODE 4312-52-P